DEPARTMENT OF THE INTERIOR

Bureau of Land Management

[MT-060-01-1020-PG]

Notice of Public Meeting; Central Montana Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central Montana Resource Advisory Council (RAC) will meet as indicated below.

DATES: The meeting will be held April 7 & 8, 2004, at the BLM's Lewistown Field Office, on Airport Road in Lewistown, Montana. The April 7 meeting will begin at 1 p.m. with a 60-minute public comment period. The meeting is scheduled to adjourn at 6 p.m.

The April 8, meeting will begin at 8 a.m. with a 30-minute public comment period and will adjourn at 3 p.m.

SUPPLEMENTRAY INFORMATION: This 15-member council advises the Secretary of the Interior on a variety of management issues associated with public lands in Montana. At this meeting the council will discuss: A working alternative for the Access and Transportation issue in the Upper Missouri River Breaks National Monument.

All meetings are open to the public. The public may present written comment to the RAC. Each formal RAC meeting will also have time allocated for hearing public comments. Depending on the number of persons wishing to comment and time available, the time for individual oral comments may be limited.

FOR FURTHER INFORMATION CONTACT: Dave Mari, Lewistown Field Manager, Lewistown Field Office, Airport Road, Lewistown, Montana 59457, (406) 538-7461.

Dated: March 3, 2004.
David L. Mari,
Lewistown Field Manager.

[FR Doc. 04-5266 Filed 3-8-04; 8:45 am]

BILLING CODE 4310-$$-P